INTERNATIONAL TRADE COMMISSION

[USITC SE-12-020]

Government in the Sunshine Act Meeting Notice

AGENCY HOLDING THE MEETING: United States International Trade Commission.

TIME AND DATE: July 31, 2012 at 11:00 a.m.

PLACE: Room 101, 500 E Street SW., Washington, DC 20436, Telephone: (202) 205-2000.

STATUS: Open to the public.

Matters To Be Considered

1. Agendas for future meetings: none.

2. Minutes.

3. Ratification List.

4. Vote in Inv. No. 731-TA-344 (Third Review)(Tapered Roller Bearings From China). The Commission is currently scheduled to transmit its determination and Commissioners” opinions to the Secretary of Commerce on or before August 16, 2012.

5. Outstanding action jackets: None.

In accordance with Commission policy, subject matter listed above, not disposed of at the scheduled meeting, may be carried over to the agenda of the following meeting.

By order of the Commission.
Issued: July 24, 2012.
William R. Bishop,
Hearings and Meetings Coordinator.

[FR Doc. 2012-18564 Filed 7-26-12; 11:15 am]

BILLING CODE 7020-02-P